DEPARTMENT OF LABOR

Employment and Training Administration

[TA-W-41,539]

CECO Door Products, Assa Abloy Door Group LLC, Harlingen, TX; Amended Certification Regarding Eligibility To Apply for Worker Adjustment Assistance

In accordance with section 223 of the Trade Act of 1974 (19 USC 2273) the U.S. Department Labor issued a Certification of Eligibility to Apply for Worker Adjustment Assistance on May 29, 2002, applicable to workers of CECO Door Products, Harlingen, Texas. The notice was published in the Federal Register on June 11, 2002 (67 FR 40006).

At the request of the State agency, the Department reviewed the certification for workers of the subject firm. The workers are engaged in the production of metal doors and frames.

Company information shows that Assa Abloy Door Group LLC is the parent firm of CECO Door Products located in Harlingen, Texas. New information provided by the State shows that some workers separated from employment at CECO Door Products had their wages reported under a separate unemployment insurance (UI) tax account for Assa Abloy Door Group LLC also located in Harlingen, Texas.

Based on these findings, the Department is amending the certification to properly reflect this matter.

The intent of the Department's certification is to include all workers of CECO Door Products who were adversely affected by increased imports of metal doors and frames.

The amended notice applicable to TA-W-41,539 is hereby issued as follows:

All workers of CECO Door Products and Assa Abloy Door Group LLC, Harlingen, Texas, who became totally or partially separated from employment on or after April 22, 2001, through May 29, 2004, are eligible to apply for adjustment assistance under Section 223 of the Trade Act of 1974.

Signed at Washington DC, this 16th day of July, 2002.
Linda G. Poole,
Certifying Officer, Division of Trade Adjustment Assistance.

[FR Doc. 02-18638 Filed 7-23-02; 8:45 am]

BILLING CODE 4510-30-P